DEPARTMENT OF ENERGY

Federal Energy Regulatory Commission

Combined Notice of Filings

Take notice that the Commission has received the following Natural Gas Pipeline Rate and Refund Report filings:

Filings Instituting Proceedings

Docket Numbers: CP08-404-000.

Applicants: MarkWest Pioneer, L.L.C.

Description: MarkWest Pioneer, L.L.C. submits its Cost and Revenue Study.

Filed Date: 7/13/12.

Accession Number: 20120713-5068.

Comments Due: 5 p.m. ET 7/31/12.

Docket Numbers: RP12-872-000.

Applicants: Trailblazer Pipeline Company LLC.

Description: 2012-07-18 NC Mieco, CIMA to be effective 7/19/2012.

Filed Date: 7/18/12.

Accession Number: 20120718-5098.

Comments Due: 5 p.m. ET 7/30/12.

Docket Numbers: RP12-873-000.

Applicants: Trailblazer Pipeline Company LLC.

Description: 2012-07-17 NC K's Cima, Mieco, Concord to be effective 7/18/2012.

Filed Date: 7/17/12.

Accession Number: 20120717-5139.

Comments Due: 5 p.m. ET 7/30/12.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP01-382-022.

Applicants: Northern Natural Gas Company.

Description: Northern Natural Gas Company submits for filing its annual report setting forth the Carlton Resolution buyout, surcharge and penalty dollars reimbursed to the Carlton Sourcers on their May reservation invoices for the 2011-2012 heating season.

Filed Date: 6/1/12.

Accession Number: 20120601-5144.

Comments Due: 5 p.m. ET 6/13/12.

Docket Numbers: RP12-828-001.

Applicants: Gulf South Pipeline Company, LP.

Description: Amendment to Filing to be effective 7/1/2012.

Filed Date: 7/18/12.

Accession Number: 20120718-5016.

Comments Due: 5 p.m. ET 7/30/12.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: July 19, 2012.
Nathaniel J. Davis, Sr.
Deputy Secretary

[FR Doc. 2012-18266 Filed 7-25-12; 8:45 am]

BILLING CODE 6717-01-P